DEPARTMENT OF COMMERCE

International Trade Administration

[A-357-812]

Honey from Argentina: Notice of Extension of Time Limit for Preliminary Results and Partial Rescission of Antidumping Duty Administrative Review

AGENCY: Import Administration, International Trade Administration, Department of Commerce.

SUMMARY: The Department of Commerce (the Department) is rescinding in part the administrative review of the antidumping duty order on honey from Argentina for the period December 1, 2005, to November 30, 2006 with respect to Mielar S.A. (Mielar)/ Compania Apicola Argentina (CAA).¹ This partial rescission is based on the withdrawal of the requests for review by the interested parties that requested the review. Additionally, the Department is extending the preliminary results of this administrative review to no later than December 20, 2007.

¹ Petitioners requested that the Department review Mielar and CAA as separate entities. However, in a previous segment of this proceeding, the Department treated these two companies as a single entity, and no new evidence has been presented in this segment of the proceeding to warrant changing this treatment.

EFFECTIVE DATE: September 4, 2007.

FOR FURTHER INFORMATION CONTACT: Deborah Scott or Robert James, AD/CVD Operations, Office 7, Import Administration, International Trade Administration, U.S. Department of Commerce, 14th Street and Constitution Avenue, NW, Washington, DC 20230; telephone: (202) 482-2657 and (202) 482-0649, respectively.

BACKGROUND: On December 1, 2006, the Department published a notice of opportunity to request an administrative review of the antidumping duty order on, inter alia, honey from Argentina. See Antidumping or Countervailing Duty Order, Finding, or Suspended Investigation; Opportunity to Request Administrative Review, 71 FR 69543 (December 1, 2006). In response, the American Honey Producers Association and the Sioux Honey Association (collectively, petitioners) timely requested an administrative review of the antidumping duty order on honey from Argentina for the December 1, 2005, through November 30, 2006 period of review (POR). The petitioners requested that the Department conduct an administrative review of entries of subject merchandise made by nine Argentine producers/exporters. In addition, the Department received timely requests for review from six Argentine exporters included in the petitioners' request and one timely request from a producer/exporter that was not included in petitioners' requests for review.

On February 2, 2007, the Department initiated a review on the ten companies² for which an administrative review was requested. See Initiation of Antidumping and Countervailing Duty Administrative Reviews and Request for Revocation in Part, 72 FR 5005 (February 2, 2007). On March 27, 2007, the Department indicated that it was selecting for review the four producers/exporters with the largest export volume during the POR: Asociacion de Cooperativas Argentinas (ACA), Mielar/CAA, Nexco S.A. (Nexco), and Seylinco, S.A. (Seylinco). See the memorandum, “Selection of Respondents” to Stephen J. Claeys, dated March 27, 2007 (Selection Memorandum). Based on the timely withdrawal of requests for review from the requesting parties, on June 19, 2007, the Department rescinded this review with respect to four companies, one of which was Nexco. See Honey from Argentina: Notice of Partial Rescission of Antidumping Duty Administrative Review, 72 FR 33740 (June 19, 2007).

² The Federal Register notice lists 11 companies; however, as explained in the previous footnote, we are treating Mielar and CAA as a single entity based on our treatment of these two entities in a previous segment of this proceeding.

On July 17, 2007, petitioners and respondent company Mielar/CAA withdrew their requests for review. See Letters from petitioners and from Mielar/CAA to the Department, dated July 17, 2007, on file in the Central Records Unit (CRU), room B-099 of the main Department building.

Rescission, in Part, of Administrative Review

The applicable regulation, 19 CFR 351.213(d)(1), states that if a party that requested an administrative review withdraws the request within 90 days of the publication of the notice of initiation of the requested review, the Secretary will rescind the review in whole or in part. Furthermore, the regulation states the Secretary may extend this time limit if the Secretary decides that it is reasonable to do so.

Although both petitioners and Mielar/CAA withdrew their requests for review after the 90-day deadline, the Department finds it reasonable to extend the withdrawal deadline because the Department has not yet devoted significant time or resources to this review, e.g., the Department has not yet conducted a sales-below cost investigation. As such, based on prior practice, the Department determines it is reasonable to extend the time limit in this case and rescind the review with respect to Mielar/CAA. See, e.g., Honey from Argentina: Notice of Partial Rescission of Antidumping Duty Administrative Review, 71 FR 61018 (October 17, 2006). The Department will issue appropriate assessment instructions for Mielar/CAA directly to U.S. Customs and Border Protection (CBP) within 15 days of the publication of this notice. The Department will direct CBP to assess antidumping duties for Mielar/CAA at the cash deposit rates in effect on the date of entry for entries during the period December 1, 2005, through November 30, 2006.

Extension of Time Limit for Preliminary Results

Section 751(a)(3)(A) of the Tariff Act of 1930, as amended (the Tariff Act), requires the Department to complete the preliminary results of an administrative review within 245 days after the last day of the anniversary month of an order for which a review is requested. However, if it is not practicable to complete the review within this time period, section 751(a)(3)(A) of the Tariff Act allows the Department to extend the time limit for the preliminary results to a maximum of 365 days after the last day of the anniversary month of an order for which a review is requested.

The Department has determined it is not practicable to complete this review within the statutory time limit because we require additional time to conduct our sales-below-cost investigation. The time needed to analyze cost of production data and to develop fully the record in this administrative review makes it impracticable to complete the preliminary results of this review within the originally specified time limit. Accordingly, the Department is extending the time limit for completion of the preliminary results of this administrative review until no later than December 20, 2007. We intend to issue the final results no later than 120 days after publication of the preliminary results notice.

Notification to Parties

This notice serves as a reminder to importers of their responsibility under section 351.402(f) of the Department's regulations to file a certificate regarding the reimbursement of antidumping duties prior to liquidation of the relevant entries during this period of time. Failure to comply with this requirement could result in the Secretary's presumption that reimbursement of antidumping duties occurred and subsequent assessment of double antidumping duties.

This notice also serves as a reminder to parties subject to administrative protective order (APO) of their responsibility concerning the disposition of proprietary information disclosed under APO in accordance with section 351.305(a)(3) of the Department's regulations. Timely written notification of the return or destruction of APO materials or conversion to judicial protective order is hereby requested. Failure to comply with the regulations and terms of an APO is a sanctionable violation.

This notice is issued and published in accordance with section 351.213(d)(4) of the Department's regulations and sections 751(a)(3)(A) and 777(i)(1) of the Tariff Act.

Dated: August 28, 2007.
Stephen J. Claeys,
Deputy Assistant Secretary for Import Administration.

[FR Doc. E7-17462 Filed 8-31-07; 8:45 am]

BILLING CODE 3510-DS-S